COMMISSION ON CIVIL RIGHTS

Notice of Public Meetings of the Nebraska Advisory Committee To Hear Testimony on Civil Rights Implications of LB 403

AGENCY: U.S. Commission on Civil Rights.

ACTION: Notice of meetings.

SUMMARY: Notice is hereby given, pursuant to the provisions of the rules and regulations of the U.S. Commission on Civil Rights (Commission) and the Federal Advisory Committee Act that the Nebraska Advisory Committee (Committee) will hold a meeting on Wednesday, July 29, 2015, at 2:00 p.m. CST and on Wednesday, August 12, 2015, at 2:00 p.m. CST for the purpose of hearing testimony regarding the civil rights impact of LB 403. The Committee approved the project proposal on the topic at its meeting on May 5, 2015.

Members of the public can listen to the discussion. The July 29 meeting is available to the public through the following toll-free call-in number: 888-364-3109, conference ID: 6261793. The August 12 meeting is available to the public through the following toll-free call-in number: 888-329-8877, conference ID: 1830572. Any interested member of the public may call these numbers and listen to the meeting. An open comment period will be provided to allow members of the public to make a statement at the end of each meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by September 12, 2015. Written comments may be mailed to the Regional Programs Unit, U.S. Commission on Civil Rights, 55 W. Monroe St., Suite 410, Chicago, IL 60615. They may also be faxed to the Commission at (312) 353-8324, or emailed to Administrative Assistant, Carolyn Allen at callen@usccr.gov. Persons who desire additional information may contact the Regional Programs Unit at (312) 353-8311.

Records and documents discussed during the meetings will be available for public viewing prior to and after the meeting at http://facadatabase.gov/committee/meetings.aspx?cid=260 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

Welcome and Introductions

Jonathan Benjamin-Alvarado, Chair

Panelist Testimony

Committee Question and Answer with Panelists

Open Comment Period

Adjournment

DATES: The meeting will be held on Wednesday, July 29, 2015, at 2:00 p.m. CST.

The meeting will be held on Wednesday, August 12, 2015, at 2:00 p.m. CST.

Public Call Information

July 29, 2015: Dial: 888-364-3109; Conference ID: 6261793

August 12, 2015: Dial: 888-329-8877; Conference ID: 1830572

FOR FURTHER INFORMATION CONTACT: David Mussatt, DFO, at 312-353-8311 or dmussatt@usccr.gov.

Dated: May 29, 2015.
David Mussatt,
Chief, Regional Programs Unit.

[FR Doc. 2015-13598 Filed 6-3-15; 8:45 am]

BILLING CODE 6335-01-P